DEPARTMENT OF LABOR

Employment and Training Administration

[TA-W-50,684]

Producto Machine Company, Bridgeport, CT; Notice of Termination of Investigation

Pursuant to section 221 of the Trade Act of 1974, as amended, an investigation was initiated on January 27, 2003, in response to a worker petition filed by a company official on behalf of workers at Producto Machine Company, Bridgeport, Connecticut.

The petitioner has requested that the petition be withdrawn. Consequently, the investigation has been terminated.

Signed at Washington, DC this 10th day of March 2003.
Richard Church,
Certifying Officer, Division of Trade Adjustment Assistance.

[FR Doc. 03-7204 Filed 3-25-03; 8:45 am]

BILLING CODE 4510-30-P